NEIGHBORHOOD REINVESTMENT CORPORATION

Regular Board of Directors Meeting

Time And Date: 2 p.m., Monday, September 20, 2004.

Place: Neighborhood Reinvestment Corporation, 1325 G Street NW., Suite 800, Boardroom, Washington, DC 20005.

Status: Open.

FOR FURTHER INFORMATION CONTACT: Jeffrey T. Bryson, General Counsel/Secretary, 202-220-2372; jbryson@nw.org.

Agenda:

I. Call to Order

II. Approval of Minutes:

June 25, 2004 Annual Meeting

III. Budget Committee Meetings

IV. Treasurer's Report

V. CEO Report

a. COO Search

b. PART Summary

c. Success Measures Update

d. Housing Choice Voucher Program

e. Activities & Output Measures

VI. Fundraising Policies Update

VII. DBA Update

a. DBA Resolution

b. DBA Start-Up Outline

VIII. Adjournment

Jeffrey T. Bryson
General Counsel/Secretary.

[FR Doc. 04-20860 Filed 9-13-04; 10:07 am]

BILLING CODE 7570-01-M